CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paperwork Reduction Act of 1995, Pub. L. 104-13, (44 U.S.C. Chapter 35). Copies of this ICR, with applicable supporting documentation, may be obtained by calling the Corporation for National and Community Service, William M. Ward, at (202) 606-5000, extension 375 or e-mail at WWard@cns.gov. Individuals who use a telecommunications device for the deaf (TTY-TDD) may call (800) 833-3722 between the hours of 9 a.m. and 5 p.m. Eastern Standard Time, Monday through Friday.

Comments should be sent to the Office of Information and Regulatory Affairs, Attn: Ms. Brenda Aguilar, OMB Desk Officer for the Corporation for National and Community Service, Office of Management and Budget, Room 10235, Washington, DC, 20503, (202) 395-7316, within 30 days from the date of publication in this Federal Register.

The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Description

The Corporation seeks to conduct an in-depth study of the attrition patterns of its AmeriCorps*State and National, AmeriCorps*VISTA and AmeriCorps*NCCC programs. This study will entail telephone interviews of approximately 30 minutes in length with 1000 former AmeriCorps members. It will provide indicators of program success, differences among programs in retaining participants, individual characteristics of participants who tend to drop out, and combinations of member and program characteristics that appear to work well or work poorly.

Type of Review: New collection.

Agency: Corporation for National and Community Service.

Title: AmeriCorps Attrition Overview Survey.

OMB Number: None.

Agency Number: None.

Affected Public: Former AmeriCorps members.

Total Respondents: 1,000.

Frequency: One time.

Average Time Per Response: 30 minutes.

Estimated Total Burden Hours: 500 hours.

Total Burden Cost (capital/startup): None.

Total Burden Cost (operating/maintenance): None.

Dated: August 22, 2002.
David Reingold,
Director, Department of Research and Policy Development.

[FR Doc. 02-21915 Filed 8-27-02; 8:45 am]

BILLING CODE 6050-$$-P